DEPARTMENT OF LABOR

Employment and Training Administration

[TA-W-60,167]

Andrew Corporation AFMA; Andrew Facility Massachusetts Division Including On-Site Leased Workers of Andover Personnel, John Galt Services, MMD Temps, Footbridge Engineering, Sperion, TEK Systems and National Engineering Service Corp, Amesbury, MA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility To Apply for Worker Adjustment Assistance and Alternative Trade Adjustment Assistance on October 6, 2006, applicable to workers of Andrew Corporation AFMA, Andrew Facility Massachusetts Division, including on-site leased workers of Andover Personnel, John Galt Services, MMD Temps, Footbridge Engineering, Amesbury, Massachusetts. The notice will be published soon in the Federal Register.

At the request of the State agency and the company, the Department reviewed the certification for workers of the subject firm. New information shows that leased workers of Tek Systems and National Engineering Service Corp. were employed on-site at the Amesbury, Massachusetts location of Andrew Corporation FMA, Andrew Facility Massachusetts Division.

Based on these findings, the Department is amending this certification to include leased workers of Tek Systems and National Engineering Service Corp. working on-site at Andrew Corporation AFMA, Andrew Facility Massachusetts Division, Amesbury, Massachusetts.

The intent of the Department's certification is to include all workers employed at Andrew Corporation AFMA, Andrew Facility Massachusetts Division, who were adversely affected by a shift in production to Mexico and China.

The amended notice applicable to TA-W-60,167 is hereby issued as follows:

All workers of Andrew Corporation, AFMA, Andrew Facility Massachusetts Division, including on-site leased workers of Andover Personnel, John Galt Services, MMD Temps, Footbridge Engineering, Spherion, Tek Systems and National Engineering Service Corp. who became totally or partially separated from employment on or after September 26, 2005, through October 6, 2008, are eligible to apply for adjustment assistance under Section 223 of the Trade Act of 1974, and are also eligible to apply for alternative trade adjustment assistance under Section 246 of the Trade Act of 1974.

Signed at Washington, DC, this 25th day of October 2006.
Richard Church,
Certifying Officer, Division of Trade Adjustment Assistance.

[FR Doc. E6-18359 Filed 10-31-06; 8:45 am]

BILLING CODE 4510-30-P